OFFICE OF MANAGEMENT AND BUDGET

Fiscal Year (FY) 2013 and (FY) 2014 List of Designated Federal Entities and Federal Entities

AGENCY: Office of Management and Budget.

ACTION: Notice.

SUMMARY: As required by Section 8G of the Inspector General Act of 1978, as amended (IG Act; 5 U.S.C. Appendix), this notice provides the FY 2013 and FY 2014 list of Designated Federal Entities and Federal Entities.

FOR FURTHER INFORMATION CONTACT: Mike Wetklow, Office of Management and Budget, Office of Federal Financial Management, New Executive Office Building, Washington, DC 20503, (202) 395-3998.

SUPPLEMENTARY INFORMATION: This notice provides the FY 2013 and FY 2014 List of Designated Federal Entities and Federal Entities which, under Section 8G of the IG Act, the Office of Management and Budget (OMB) is required to publish. This list is also posted on the OMB Web site at http://www.whitehouse.gov/omb.

The list of the “Federal Entities” has been updated to reflect: (1) The re-establishment of the Administrative Conference of the United States in March 2010 (ACUS had not received funding between 1995 and 2009); (2) the establishment of the Financial Stability Oversight Council in Public Law 111-203 (Section 111); (3)the establishment of the Gulf Coast Ecosystem Restoration Council in Public Law 112-141 (Section 1603); and (4) the establishment of the Valles Caldera Trust in Public Law 106-248.

The list of the “Designated Federal Entities” has been updated to reflect the amendments in Public Law 111-203 and Public Law 111-259 to Section 8G of the IG Act. With respect to the IG Act's listing of “designated Federal entities” in Section 8G(a)(2), Public Law 111-203 added the Bureau of Consumer Financial Protection to the pre-existing listing for “the Board of Governors of the Federal Reserve System”; and, Public Law 111-259 added the Defense Intelligence Agency, the National Geospatial-Intelligence Agency, the National Reconnaissance Office, and the National Security Agency. In addition, Public Law 111-203 amended Section 8G(a)(4), which is the provision of the IG Act that defines the term “head of the designated Federal entity.” As an initial matter, Congress amended the introductory text of Section 8G(a)(4) to state that—in the case of boards and commissions—“the term `head of the designated Federal entity' means the board or commission of the designated Federal entity.” As a result of this amendment, Section 8G(a)(4) sets forth three main categories of “designated Federal entities” with respect to who is the “head” of the entity: the term “head of the designated Federal entity” means (1) “the board or commission of the designated Federal entity”; (2) “in the event the designated Federal entity does not have a board or commission, any person or persons designated by statute as the head of a designated Federal entity”; and (3) “if no such designation exists, the chief policymaking officer or board of a designated Federal entity as identified in the list published pursuant to subsection (h)(1) of this section, except that . . .” In addition, Public Law 111-203 amended Section 8G(a)(4) to include six additional entity-specific exceptions to those general rules; in these exceptions, Congress specifies who is the “head of the designated Federal entity” for each of those entities. The pre-existing exceptions—for the National Science Foundation and the United States Postal Service—are found at subparagraphs (A) and (B), and the six added exceptions—for the Federal Labor Relations Authority, the National Archives and Records Administration, the National Credit Union Administration, the National Endowment for the Arts, the National Endowment for the Humanities, and the Peace Corps—are found at subparagraphs (C) through (H).

The list below is divided into two groups: Designated Federal Entities and Federal Entities. Designated Federal Entities are listed in the IG Act, except for those agencies that have ceased to exist or that have been deleted from the list. The Designated Federal Entities are required to establish and maintain Offices of Inspector General to: (1) Conduct and supervise audits and investigations relating to programs and operations; (2) promote economy, efficiency, and effectiveness of, and to prevent and detect fraud and abuse in such programs and operations; and (3) provide a means of keeping the entity head and the Congress fully and currently informed about problems and deficiencies relating to the administration of such programs and operations and the necessity for, and progress of, corrective actions.

Section 8G(a)(1) of the IG Act defines a “Federal entity” as: any Government corporation (within the meaning of section 103 (1) of title 5, United States Code), any Government controlled corporation (within the meaning of section 103 (2) of such title), or any other entity in the Executive Branch of the Government, or any independent regulatory agency, but does not include:

(1) An establishment (as defined in section 11(2) of this Act or part of an establishment;

(2) a designated Federal entity [as defined in section 8G(a)(2) of the Act] or part of a designated Federal entity;

(3) the Executive Office of the President;

(4) the Central Intelligence Agency;

(5) the Government Accountability Office; or

(6) any entity in the judicial or legislative branches of the Government, including the Administrative Office of the United States Courts and the Architect of the Capitol and any activities under the direction of the Architect of the Capitol.

Pursuant to section 8(G)(h)(2) of the IG Act, Federal Entities are required to report annually to each House of the Congress and OMB on audit and investigative activities in their organizations.

Norman Dong,
Deputy Controller.

Herein follows the text of the FY 2013 and FY 2014 List of Designated Federal Entities and Federal Entities.

FY 2013 and FY 2014 List of Designated Federal Entities and Federal Entities

Section 8G of the IG Act, as amended, requires OMB to publish a list of designated Federal entities and Federal entities and the head of such entities. Designated Federal entities are required to establish Offices of Inspector General. Federal entities are required to report upon annual audit and investigative activities to each House of Congress and the Director of the Office of Management and Budget.

Designated Federal Entities and Entity Heads

1. Amtrak (National Railroad Passenger Corporation)—Board

2. Appalachian Regional Commission—Commission

3. The Board of Governors, Federal Reserve System and the Bureau of Consumer Financial Protection—Board

4. Broadcasting Board of Governors—Board

5. Commodity Futures Trading Commission—Commission

6. Consumer Product Safety Commission—Commission

7. Corporation for Public Broadcasting—Board

8. Defense Intelligence Agency—Director

9. Denali Commission—Commission

10. Election Assistance Commission—Commission

11. Equal Employment Opportunity Commission—Commission

12. Farm Credit Administration—Board

13. Federal Communications Commission—Commission

14. Federal Election Commission—Commission

15. Federal Labor Relations Authority—Authority Members

16. Federal Maritime Commission—Commission

17. Federal Trade Commission—Commission

18. Legal Services Corporation—Board

19. National Archives and Records Administration—Archivist of the United States

20. National Credit Union Administration—National Credit Union Administration Board

21. National Endowment for the Arts—National Council on the Arts

22. National Endowment for the Humanities—National Council on the Humanities

23. National Geospatial-Intelligence Agency—Director

24. National Labor Relations Board—Board

25. National Reconnaissance Office—Director

26. National Science Foundation—National Science Board

27. National Security Agency—Director

28. Peace Corps—Director

29. Pension Benefit Guaranty Corporation—Board

30. Postal Regulatory Commission—Commission

31. Securities and Exchange Commission—Commission

32. Smithsonian Institution—Board of Regents

33. United States International Trade Commission—Commission

34. United States Postal Service—Governors of the Postal Service

Federal Entities and Entity Heads

1. Administrative Conference of the United States—Chairperson

2. Advisory Council on Historic Preservation—Chairperson

3. African Development Foundation—Chairperson

4. American Battle Monuments Commission—Chairperson

5. Architectural and Transportation Barriers Compliance Board—Chairperson

6. Armed Forces Retirement Home—Chief Operating Officer

7. Barry Goldwater Scholarship and Excellence in Education Foundation—Chairperson

8. Chemical Safety and Hazard Investigation Board—Chairperson

9. Christopher Columbus Fellowship Foundation—Chairperson

10. Commission for the Preservation of America's Heritage Abroad—Chairperson

11. Commission of Fine Arts—Chairperson

12. Commission on Civil Rights—Chairperson

13. Committee for Purchase from People Who Are Blind or Severely Disabled—Chairperson

14. Court of Appeals for Veterans Claims—Chief Judge

15. Court Services and Offender Supervision Agency for DC—Director

16. Defense Nuclear Facilities Safety Board—Chairperson

17. Delta Regional Authority—Federal Co-Chairperson

18. Farm Credit System Insurance Corporation—Chairperson

19. Federal Financial Institutions Examination Council—Chairperson

20. Federal Mediation and Conciliation Service—Director

21. Federal Mine Safety and Health Review Commission—Chairperson

22. Federal Retirement Thrift Investment Board—Executive Director

23. Financial Stability Oversight Council—Chairperson

24. Gulf Coast Ecosystem Restoration—Council—Chairperson

25. Harry S. Truman Scholarship Foundation—Chairperson

26. Institute of American Indian and Alaska Native Culture and Arts Development—Chairperson

27. Institute of Museum and Library Services—Director

28. Inter-American Foundation—Chairperson

29. James Madison Memorial Fellowship Foundation—Chairperson

30. Japan-U.S. Friendship Commission—Chairperson

31. Marine Mammal Commission—Chairperson

32. Merit Systems Protection Board—Chairperson

33. Millennium Challenge Corporation—Chief Executive Officer

34. Morris K. Udall Scholarship and Excellence in National Environmental Policy Foundation—Chairperson

35. National Capital Planning Commission—Chairperson

36. National Council on Disability—Chairperson

37. National Mediation Board—Chairperson

38. National Transportation Safety Board—Chairperson

39. National Veterans Business Development Corporation—Chairperson

40. Neighborhood Reinvestment Corporation—Chairperson

41. Nuclear Waste Technical Review Board—Chairperson

42. Occupational Safety and Health Review Commission—Chairperson

43. Office of the Federal Coordinator for Alaska Natural Gas Transportation Projects—Federal Coordinator

44. Office of Government Ethics—Director

45. Office of Navajo and Hopi Indian Relocation—Chairperson

46. Office of Special Counsel—Special Counsel

47. Overseas Private Investment Corporation—Board

48. Presidio Trust—Chairperson

49. Selective Service System—Director

50. Smithsonian Institution/John F. Kennedy Center for the Performing Arts—Chairperson

51. Smithsonian Institution/National Gallery of Art—President

52. Smithsonian Institution/Woodrow Wilson International Center for Scholars—Director

53. Trade and Development Agency—Director

54. U.S. Holocaust Memorial Museum—Chairperson

55. U.S. Interagency Council on Homelessness—Chairperson

56. U.S. Institute of Peace—Chairperson

57. Valles Caldera Trust—Chairperson

58. Vietnam Education Foundation—Chairperson

[FR Doc. 2014-00210 Filed 1-9-14; 8:45 am]

BILLING CODE P